OFFICE OF PERSONNEL MANAGEMENT

Notice of Submission for Renewal of a Previously Approved Information Collection: Questionnaire for National Security Positions, Standard Form 86 (SF 86)

AGENCY: Office of Personnel Management.

ACTION: 30-Day notice and request for comments.

SUMMARY: The Office of Personnel Management (OPM), Suitability Executive Agent Programs, is notifying the general public and other federal agencies that OPM proposes to request the Office of Management and Budget (OMB) to renew a previously-approved information collection, Questionnaire for National Security Positions, Standard Form 86 (SF 86).

DATES: Comments are encouraged and will be accepted until December 23, 2019.

ADDRESSES: Interested persons are invited to submit written comments on the proposed information collection to the Office of Information and Regulatory Affairs, Office of Management Budget by the following method: http://www.regulations.gov. Follow the instructions for submitting comments. All submissions received must include the agency name and docket number for this document. The general policy for comments and other submissions from member of the public is to make these submissions available for public viewing at http://www.regulations.gov as they are received without change, including any personal identifiers or contact information.

FOR FURTHER INFORMATION CONTACT: A copy of this information collection, with applicable supporting documentation, may be obtained by contacting Suitability Executive Agent Programs, U.S. Office of Personnel Management, 1900 E Street NW, Washington, DC 20415, Attention: Lisa Loss or by electronic mail at SuitEA@opm.gov.

SUPPLEMENTARY INFORMATION: This notice announces that OPM has submitted to OMB a request for renewal of a previously-approved information collection, control number 3206-0005, Questionnaire for National Security Positions, Standard Form 86 (SF 86). The public has an additional 30-day opportunity to comment.

The Questionnaire for National Security Positions, Standard Form 86 (SF 86) is completed by civilian employees of the Federal Government, military personnel, and non-federal employees, including employees of general contractors and individuals otherwise not directly employed by the Federal Government but who perform work for or on behalf of the Federal Government. For applicants for civilian Federal employment, the SF 86 is to be used only after a conditional offer of employment has been made. The Electronic Questionnaires for Investigations Processing (e-QIP) is a web-based system application that houses the SF 86. A variable in assessing burden hours is the nature of the electronic application. The electronic application includes branching questions and instructions which provide for a tailored collection from the respondent based on varying factors in the respondent's personal history. The burden on the respondent is reduced when the respondent's personal history is not relevant to particular question, since the question branches, or expands for additional details, only for those persons who have pertinent information to provide regarding that line of questioning. Accordingly, the burden on the respondent will vary depending on whether the information collection relates to the respondent's personal history.

OPM recommends renewal of the form without any proposed changes, except to underlying authorities, which have been revised in the period since the last renewal, and the Privacy Act Information Statement, to acknowledge the transfer of background investigations files from OPM to DoD. No other changes are recommended at this time. Ongoing assessments will occur to ensure the SF 86 reflects and collects pertinent information for the investigative process and aligns with governing policies, rules, and regulations requiring use of this form.

The 60 day Federal Register Notice was published on June 12, 2019 (84 FR 27372). No comments were received.

Analysis

Agency: Office of Personnel Management, Suitability Executive Agent Programs.

Title: Questionnaire for National Security Positions, Standard Form 86 (SF 86).

OMB Number: 3206-0005.

Affected Public: Individuals.

Number of Respondents: 470,124.

Estimated Time per Respondent: 150 minutes.

Total Burden Hours: 1,175,310.

Office of Personnel Management.
Alexys Stanley,
Regulatory Affairs Analyst.

[FR Doc. 2019-25188 Filed 11-20-19; 8:45 am]

BILLING CODE 6325-38-P